DEPARTMENT OF HEALTH AND HUMAN SERVICES

Administration for Children and Families

45 CFR Part 1357

Tribal Consultation Meetings Regarding Requirements Applicable to Title IV-B Child and Family Services Plan

AGENCY: Children's Bureau, Administration on Children, Youth and Families (ACYF), ACF, HHS.

ACTION: Notice of tribal consultation.

SUMMARY: The title IV-B regulations regarding the title IV-B plan and fiscal requirements are outdated due to statutory changes over the last 15 years. The Children's Bureau (CB) is deciding whether to revise the regulations accordingly. Per the ACF Tribal Consultation Policy (76 FR 55678, published September 8, 2011), we request comments from Indian Tribes that operate a title IV-B, subpart 1 and/or title IV-B, subpart 2 program and any other interested party. We provide further information on these statutory changes below, under SUPPLEMENTARY INFORMATION.

DATES: Please submit written comments to the office listed in the ADDRESSES section below on or before April 6, 2012. Please see SUPPLEMENTARY INFORMATION for additional details on consultation meetings.

ADDRESSES: Interested persons may submit written comments by any of the following methods:

• Federal eRulemaking Portal: http://www.regulations.gov. Follow the instructions for submitting comments.

• Email: CBComments@acf.hhs.gov. Please include “Comments on 45 CFR 1357 Federal Register Notice” in the subject line of the message.

• Mail or Courier Delivery: Jan Rothstein, Division of Policy, Children's Bureau, Administration on Children, Youth and Families, Administration for Children and Families, 1250 Maryland Avenue SW., 8th Floor, Washington, DC 20024.

Instructions: If you choose to use an express, overnight or other special delivery method, you must ensure that delivery is made at the address listed under the ADDRESSES section. We urge interested parties to submit comments electronically to ensure that we receive them in a timely manner. We will post all comments without change to www.regulations.gov. This will include any personal information provided. We will provide equal consideration to comments provided during a meeting or written responses to this Federal Register notice.

FOR FURTHER INFORMATION CONTACT: Jan Rothstein, Division of Policy, Children's Bureau, Administration on Children, Youth and Families, 1250 Maryland Avenue SW., 8th Floor, Washington, DC 20024; phone: (202) 401-5073; email at: jrothstein@acf.hhs.gov. Do not email comments on the Notice to this address.

SUPPLEMENTARY INFORMATION: Federal regulations at 45 CFR 1357, originally published in 1996, implement title IV-B of the Social Security Act (the Act). Legislation enacted over the last 15 years added new plan and fiscal requirements to title IV-B for States and Tribes to implement. While we have addressed these title IV-B requirements in Program Instructions and Information Memorandums, we are considering regulatory amendments to bring the regulations in line with the Act. Additionally, these regulations refer to numerous obsolete dates and timelines. Below, we provide a list of the major changes in the law since 1996 that relate to the title IV-B program requirements.

Several regulatory provisions have been superseded by statute including:

• 45 CFR 1357.50: The Child and Family Services Improvement and Innovation Act (Public Law (Pub. L.) 112-34) amended section 431 of the Act to define “Indian Tribe” for title IV-B, subpart 2 the same way it is defined for title IV-B, subpart 1; this makes the definitions of Indian Tribe in 1357.50 obsolete.

• 45 CFR 1357.50(f)(1)(ii): Amendments to section 432(b)(2) of the Act in the Child and Family Services Improvement Act of 2006 (Pub. L. 109-288) supersede the Secretary's authority to waive for Indian Tribes only the requirement that title IV-B, subpart 2 funds will not be used to supplant Federal or non-Federal funds expended under title IV-B, subpart 2. ACF continues to have the authority to waive for Indian Tribes only the requirement that not more than 10 percent of expenditures will be for administrative costs and the requirement that a significant portion of expenditures will be for family preservation services, community-based family support services, time limited family reunification services, and adoption promotion and support services; and

• 45 CFR 1357.50(f)(2): Further amendments in Public Law 109-288 to section 432(b)(2) of the Act supersede the Secretary's authority to waive other State plan requirements requested by the Tribe (only those listed in paragraphs (f)(1)(i) and (iii) may still be waived) contrary to what is stated in 45 CFR 1357.50(f)(2).

The Child and Family Services Plan requirements have been revised by statutory changes including:

• A requirement that title IV-B agencies coordinate and collaborate with the State Medicaid agency and, in consultation with pediatricians and others, develop a plan for the ongoing oversight and coordination of health care services for any child in a foster care placement in accordance with the Fostering Connections to Success and Increasing Adoptions Act of 2008 (Pub. L. 110-351).

• A description of the standards for the content and frequency of caseworker visits for children in foster care as described in sections 422(b)(17) of the Act pursuant to Public Law 112-34; and

• A description of activities to reduce the length of time children under five years of age are without a permanent family and to address the developmental needs of such children who receive benefits or services under titles IV-B/IV-E in accordance with Public Law 112-34.

Amendments to the Act over the years removed several title IV-B requirements including:

• 45 CFR 1357.15(c)(3): Assurance of a plan for the training and use of paid paraprofessional staff and for the use of volunteers; and

• 45 FR 1357.15(c)(4): Requirement to assure day care facility standards and requirements correspond with the child care standards imposed under title XX.

Consultation Opportunities: As specified in the ADDRESSES section, you may submit written comments. In addition, we plan to hold conference calls and in-person consultations in ACF Regions II, VI, VII and X and in our Washington, DC office. We invite Tribal leaders and/or their representatives to personally attend these meetings or call in to provide input on the proposed changes. You may provide written comments as noted in the ADDRESSES section, regardless of participation in a meeting. The consultation sessions and contact information are listed below:

CB conference call: February 27, 2012, 10 a.m.-12 p.m. EST.

Call-in number: 888-769-8931.

Passcode: 3683365.

Contact: Jan Rothstein at (202) 401-5073 or email at: jrothstein@acf.hhs.gov.

CB conference call: March 2, 2012, 10 a.m.-12 p.m. EST.

Call-in number: 888-769-8931.

Passcode: 3683365.

Contact: Jan Rothstein at (202) 401-5073 or email at: jrothstein@acf.hhs.gov.

Region II meeting/conference call March 15, 2012, 10 a.m.-11:30 a.m. EST.

Contact: Shari Brown at (212) 264-2890 or email at: Shari.Brown@acf.hhs.gov.

Region VI meeting/conference call March 6, 2012, 10 a.m.-12 p.m. CT.

Contact: Nanette Bishop at (214) 767-5241 or email at: nanette.bishop@acf.hhs.gov.

Region VII meeting/conference call February 24, 2012, 1-3 p.m. CT.

Contact: Rosalyn Wilson at 816-426-2262 or email at: Rosalyn.wilson@acf.hhs.gov.

Region X meeting/conference call on March 19, 2012, 11 a.m.-1 p.m. PT.

Contact: Jennifer Zanella at (206) 615-2604 or email at: Jennifer.zanella@acf.hhs.gov.

Authority: 42 U.S.C. 620 et seq., 42 U.S.C. 670 et seq.; 42 U.S.C. 1302.

Dated: February 7, 2012.
Bryan Samuels,
Commissioner, Administration on Children, Youth and Families.

[FR Doc. 2012-3442 Filed 2-17-12; 8:45 am]

BILLING CODE 4184-01-P